DEPARTMENT OF COMMERCE

International Trade Administration

Application for Duty-Free Entry of Scientific Instrument

Pursuant to Section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, D.C. 20230. Applications may be examined between 8:30 A.M. and 5:00 P.M. in Room 4211, U.S. Department of Commerce, 14th Street and Constitution Avenue, N.W., Washington, D.C.

Docket Number: 00-037. Applicant: Washington University School of Medicine, Department of Anesthesiology, Research Unit, 660 South Euclid, Campus Box 8054, St. Louis, MO 63110. Instrument: Flash Lamp System with Accessories. Manufacturer: Rapp OptoElectronic, Germany. Intended Use: The instrument will be used to study the mechanisms that underlie the synaptic connection at a synapse in the brain to determine how an increase in Ca²⁺ regulates synaptic transmission. Application accepted by Commissioner of Customs: November 6, 2000.

Gerald A. Zerdy,
Program Manager, Statutory Import Programs Staff.

[FR Doc. 00-30040 Filed 11-22-00; 8:45 am]

BILLING CODE 3510-DS-P